DEPARTMENT OF COMMERCE

National Oceanic and Atmospheric Administration

RIN 0648-XD191

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings, April 7-14, 2014.

DATES: The Council will begin its plenary session at 8 a.m. on Wednesday April 9, continuing through Monday April 14, 2014. The Scientific Statistical Committee (SSC) will begin at 8 a.m. on Monday April 7 and continue through Wednesday April 9, 2014. The Council's Advisory Panel (AP) will begin at 8 a.m. on Tuesday April 8 and continue through Friday April 11, 2014. The Ecosystem Committee will meet Tuesday April 8, at 10 a.m. to 5 p.m. All meetings are open to the public, except executive sessions.

ADDRESSES: The meetings will be held at the Hilton Hotel, 500 West 3rd Avenue, Anchorage, AK.

Council address: North Pacific Fishery Management Council, 605 W. 4th Avenue, Suite 306, Anchorage, AK 99501-2252.

FOR FURTHER INFORMATION CONTACT: David Witherell, Council staff, telephone: (907) 271-2809.

SUPPLEMENTARY INFORMATION:

Council Plenary Session: The agenda for the Council's plenary session will include the following issues. The Council may take appropriate action on any of the issues identified.

1. Executive Director's Report (including Magnuson-Stevens Act (MSA) update.

NMFS Management Report (including Electronic Monitoring (EM) update.

ADF&G Report.

USCG Report.

USFWS Report.

Protected Species Report.

2. Steller Sea Lions.

3. Review discussion paper for the Gulf of Alaska (GOA) Trawl Bycatch; review draft Economic Date Reporting (EDR) forms.

4. Review Fishery Cooperative reports.

5. Discuss template for Bering Sea Aleutian Island (BSAI) Crab co-op reports.

6. Amendment 80 5-year review.

7. Final action on Round Island Transit.

8. Bering Sea pollock fishery Chinook salmon Incentive Program Agreement (IPA) and chum Inter-cooperative Agreements (ICA) reports; Bering Sea and GOA salmon PSC genetics update.

9. Scallop Stock Assessment Fishery (SAFE); Plan Team report and Overfishing Level (OFL)/Acceptable Biological Catch (ABC) specifications.

10. Discussion paper on Bering Sea Canyons.

11. Ecosystem Committee Report on ecosystem action planning.

12. Update on Essential Fish Habitat (EFH) 5-year review.

13. Review Programmatic Supplemental Environmental Impact Assessment (PSEIS) Supplemental Information Report (SIR).

14. Research Priorities database (SSC review).

15. Pacific cod assessment models (SSC review).

16. Staff Tasking.

The SSC agenda will include the following issues:

1. GOA Trawl Bycatch (EDR forms)

2. Amendment 80 5-year review

3. Salmon Bycatch genetics

4. Scallop SAFE

5. Bering Sea Canyons

6. EFH 5-year review

7. Pacific cod models

8. PSEIS SIR review

9. Research Priorities

In addition to providing ongoing scientific advice for fishery management decisions, the SSC functions as the Councils primary peer review panel for scientific information as described by the Magnuson-Stevens Act section 302(g)(1)(e), and the National Standard 2 guidelines (78 FR 43066, July 19, 2013). The peer review process is also deemed to satisfy the requirements of the Information Quality Act, including the OMB Peer Review Bulletin guidelines.

The Agenda is subject to change, and the latest version will be posted at http://www.npfmc.org. Background documents, reports, and analyses for review are posted on the Council Web site in advance of the meeting. The names and organizational affiliations of SSC members are also posted on the Web site.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 17, 2014.
Tracey L. Thompson,
Acting Deputy Director, Office of Sustainable Fisheries, National Marine Fisheries Service.

[FR Doc. 2014-06133 Filed 3-19-14; 8:45 am]

BILLING CODE 3510-22-P